DEPARTMENT OF TRANSPORTATION

Federal Aviation Administration

Approval of Noise Compatibility Program, Boca Raton Airport, Boca Raton, FL

AGENCY: Federal Aviation Administration, DOT.

ACTION: Notice.

SUMMARY: The Federal Aviation Administration (FAA) announces its findings on the noise compatibility program submitted by the Boca Raton Airport Authority under the provisions of Title I of the Aviation Safety and Noise Abatement Act of 1979 (Public Law 96193) and 14 CFR part 150. These findings are made in recognition of the description of Federal and nonfederal responsibilities in Senate Report No. 9652 (1980). On December 31, 2001, the FAA determined that the noise exposure maps submitted by the Boca Raton Airport Authority under part 150 were in compliance with applicable requirements. On June 28, 2002, the Administrator approved the Boca Raton Airport noise compatibility program. Most of the recommendations of the program were approved.

EFFECTIVE DATE: The effective date of the FAA's approval of the Boca Raton Airport noise compatibility program is June 28, 2002.

FOR FURTHER INFORMATION CONTACT: Bonnie L. Baskin, Federal Aviation Administration, Orlando Airports District Office, 5950 Hazeltine National Dr., Suite 400, Orlando, Florida 32822, (407) 8126331, Extension 30. Documents reflecting this FAA action may be reviewed at this same location.

SUPPLEMENTARY INFORMATION: This notice announces that the FAA has given its overall approval to the noise compatibility program for Boca Raton Airport, effective June 28, 2002.

Under section 104(a) of the Aviation Safety and Noise Abatement Act of 1979 (hereinafter referred to as “the Act”), an airport operator who has previously submitted a noise exposure map may submit to the FAA a noise compatibility program which sets forth the measures taken or proposed by the airport operator for the reduction of existing noncompatible land uses and prevention of additional noncompatible land uses within the area covered by the noise exposure maps. The Act requires such programs to be developed in consultation with interested and affected parties including local communities, government agencies, airport users, and FAA personnel.

Each airport noise compatibility program developed in accordance with Federal Aviation Regulations (FAR) part 150 is a local program, not a Federal Program. The FAA does not substitute its judgment for that of the airport proprietor with respect to which measure should be recommended for action. The FAA's approval or disapproval of FAR part 150 program recommendations is measured according to the standards expressed in part 150 and the Act, and is limited to the following determinations:

a. The noise compatibility program was developed in accordance with the provisions and procedures of FAR part 150;

b. Program measures are reasonably consistent with achieving the goals of reducing existing noncompatible land uses around the airport and preventing the introduction of additional noncompatible land uses;

c. Program measures would not create an undue burden on interstate or foreign commerce, unjustly discriminate against types or classes of aeronautical users, violate the terms of airport grant agreements, or intrude into areas preempted by the Federal government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Airports District Office in Orlando, Florida.

The Boca Raton Airport Authority submitted to the FAA on December 11, 2001, the noise exposure maps, descriptions, and other documentation produced during the noise compatibility planning study conducted from March 18, 1999, through December 11, 2001. The Boca Raton Airport noise exposure maps were determined by FAA to be in compliance with applicable requirements on December 31, 2001. Notice of this determination was published in the Federal Register on December 31, 2001. As a result of the FAA actions on the air traffic procedural recommendations, above, the FAA considers the forecast 2006 NEM to be “2006 with Existing Noise Compatibility Program”, for purposes of application of the following Land Use Elements. As the FAA announces its actions on the NCP Update in the Federal Register, it is issuing a revised determination that this forecast NEM will replace the “2006 Noise Exposure Map with Recommended Noise Compatibility Program” that was determined in compliance with part 150 by FAA on December 31, 2001.

The Boca Raton Airport study contains a proposed noise compatibility program comprised of actions designed for phased implementation by airport management and adjacent jurisdictions from the date of study completion to the year 2006. It was requested that FAA evaluate and approve this material as a compatibility program as described in section 104(b) of the Act. The FAA began its review of the program on December 31, 2001, and was required by a provision of the Act to approve or disapprove the program within 180-days (other than the use of new flight procedures for noise control). Failure to approve or disapprove such program within the 180-day period shall be deemed to be an approval of such program.

The submitted program contained nineteen (19) proposed actions for noise mitigation on and off the airport. The FAA completed its review and determined that the procedural and substantive requirements of the Act and FAR part 150 have been satisfied. The overall program, therefore, was approved by the Administrator effective June 28, 2002.

Outright approval was granted for seven (7) of the nineteen (19) specific program elements. One (1) element was disapproved for the purposes of part 150, eleven (11) elements were partially approved. The approval action was for the following program measures:

Measure | Description | NCP pages
Operational Measures
1. Runway 5 noise abatement turn to 360°, to climb west of Interstate 95, to 1,500′ | This measure replaces Measure 1 from the 1991 Noise Compatibility Program, page 3-11, “Voluntary Runway 5 noise abatement turn to 360 degrees to climb west of I-95. Maintain heading until reaching 1,500 feet.” FAA Action: Approved as voluntary, when air traffic and airspace safety and efficiency conditions permit. This procedure places traffic over the noise-compatible interstate corridor, and was approved as a voluntary measure in the Noise Compatibility Program ROA that was signed by FAA on August 19, 1991. However, since approval of this measure, the number of aircraft instrument operations at this airport and in the Palm Beach region has increased steadily. Because of the growing complexities of safely and efficiently controlling air traffic in this area, it has become more difficult to allow extensive use of this voluntary procedure. This departure procedure not only affects the flow of traffic at this airport, but also requires additional coordination with several different facilities that are controlling aircraft traversing in many different directions comprised of inbound and outbound traffic from Palm Beach International Airport, Pompano Airpark, and Boca Raton Airport. This procedure directs VFR aircraft into an IFR final approach course (VOR/DME and GPS-A); when these conflicting procedures are in effect, capacity is reduced as arrivals would have to be sequenced with departures | 75, 93, 131, 210, Table 12.1.
2. Runway 23 noise abatement turn to 255°, to climb over Town Center, to 1,500′ | This measure replaces Measure 2 from the 1991 Noise Compatibility Program, page 3-12, “Establish a voluntary Runway 23 noise abatement turn to 255 degrees to climb over area southwest of airport. Maintain heading until reaching 1,500 feet.” FAA Action: Approved as voluntary, when air traffic and airspace safety and efficiency conditions permit. Aircraft would fly over a compatible commercial corridor. This element was approved as a voluntary measure in the Noise Compatibility Program signed on August 19, 1991. However, since approval of this measure, the number of aircraft instrument operations at this airport and in the Palm Beach region has increased steadily. Because of the growing complexities of safely and efficiently controlling air traffic in this area, it has become more difficult to allow use of this voluntary procedure. This procedure not only affects the flow of traffic at this airport, but also requires additional coordination with several different facilities that are controlling aircraft traversing in many different directions comprised of traffic from Palm Beach International Airport, Pompano Airpark, and Boca Raton Airport. This procedure directs aircraft towards the Pompano Airpark localizer and GPS final approach course to Runway 15, and mandatory use of this procedure would limit capacity at all three airports because of sequencing requirements for arrivals with departures | 75, 93, 131, 210, Table 12.1.
3. Recommend jets use NBAA noise abatement procedures, including “close-in” NADP | This measure replaces Measure 5 from the 1991 Noise Compatibility Program, page 3-24, “Recommend corporate jet pilots use of NBAA noise abatement procedures, including ‘close-in’ departure procedures.” FAA Action: Approved as a voluntary measure. The NPC supplemental analysis shows that use of the noise abatement procedure instead of the standard departure procedure would reduce noise on a single event basis | 75, 131, 157, 210, and Tables 12.1.
4. Right-hand traffic pattern on Runway 23 | This measure replaces Measure 4 from the 1991 Noise Compatibility Program, page 3-12, “Continue right-hand traffic pattern on Runway 23.” Current procedures at the airport call for right-handed traffic for Runway 23 operations to avoid overflight of the relatively more densely developed areas east of the airport, including Florida Atlantic University. FAA Action: Approved as voluntary, when air traffic and airspace safety and efficiency conditions permit. This measure was included in the 1991 Noise Compatibility Program for Boca Raton Airport | 192, 210, and Table 12.1.
5. Left-hand traffic pattern on Runway 5, with right-hand arrivals from the east | This measure replaces Measure 3 from the 1991 Noise Compatibility Program, page 2-11, “Continue left-hand traffic pattern on Runway 5.” FAA Action: Approved in part, disapproved in Part. A left-hand traffic pattern is a standard VFR operational procedure and was included in the 1991 Noise Compatibility Program for Boca Raton Airport. The standard left-hand traffic pattern operation on Runway 5 is approved. The simultaneous right-hand traffic pattern for arrivals from the east is disapproved. This activity puts aircraft in direct conflict with other arriving aircraft using the left-hand traffic pattern | 133, 139, Table 9.8, 192, 210, and Table 12.1.
6. North-flow preferential runway use | FAA Action: Approved as voluntary, when air traffic and airspace safety and efficiency conditions permit. North-flow operation on Runway 5 is currently being used approximately 80% of the time because of the winds and air traffic control measures. Table 9.8 indicates that mandatory implementation of this measure would increase noise to approximately 86 people in the DNL 65 dB noise contour, and reduce noise to approximately 264 people in the DNL 60 dB noise contour. The FAA considers impacts at noise levels of DNL 65 dB and greater to be significant when compared to lesser noise levels of “moderate” impact (less than DNL 65 dB, and greater than DNL 55 dB), as described in the Federal compatible land use guidelines at Table 1 of part 150. In this case, the airport operator has adopted a deviation from the Federal compatibility guidelines published in part 150 at Table 1 (see NCP, chapter 7). Based on air traffic concerns expressed above at FAA's action on measures 1 and 2, the FAA does not expect continued use of this measure to change from the present values | 132, 139, and 210, and Tables 9.8 and 12.1.
7. Further analysis of restrictive options | This measure includes: 24-hour restriction on stage 1 jet operations, night restrictions on non-stage 3 operations, and night restriction on all aircraft operations. This recommendation is to continue evaluation of other options to reduce noise impacts outside of the FAR part 150 process. Study of these recommendations will require additional analysis under FAR part 161 and evaluation of the Grant Assurances for which the airport is obligated under past Grant Agreements with the FAA. FAA Action: Approved for study. The Boca Raton Airport's NCP in Table 9.8 indicates that approximately 2,180 people will be exposed to significant levels of aircraft noise within the DNL 65 dB 2006 Forecast NEM contour, absent mandatory implementation of air traffic procedures. The Boca Raton Airport Authority, the airport sponsor, proposes to study several noise restriction options that could further reduce noise impacts. The study should reflect the noise contours and land use compatibility achieved under this approved part 150 program and evaluates additional noise benefits that could be realized with any particular restriction. FAA's part 150 approval for the additional study in no way prejudges the study's outcome or implies agreement with any restriction that may result from the study. In order to be eligible for Federal funding, the study results must be incorporated into a part 150 update All proposed restrictions under consideration by the Boca Raton Airport Authority must be evaluated for consistency with Federal law, including assurances in airport grant agreements. Federal law requires that restrictions be reasonable, have no adverse effect on safety or efficient use of the airspace, not pose an undue burden to interstate commerce, not be unjustly discriminatory, and not intrude into areas that are Federally preempted. In addition, proposed restrictions that would affect the operations of Stage 2 and Stage 3 aircraft are subject to Part 161, including public notice and analysis requirements. FAA approval, pursuant to specified statutory criteria, is required under Part 161 for a restriction affecting Stage 3 operations. The restriction that would affect only Stage 1 aircraft is not subject to Part 161, but is subject to all other requirements of Federal law | 192, 210, and Tables 12.1.
8. Obtain “formal” FAA implementation status for Elements 1, 2, 4, 5, and 6 | This new recommendation is to obtain formal agreement with the FAA to incorporate Elements 1, 2, 4, 5, and 6 into a Tower Order which will require the air traffic controllers to follow these procedures at all times. FAA Action: Disapproved. Under this formal agreement, there would be no allowance for weather conditions or for the growing complexities of controlling traffic in the Palm Beach area resulting from the steady increase in air traffic through the area. As indicated in FAA's determinations on these individual measures, above, mandatory use of these flight patterns could impact aircraft safety and efficiency. To the extent the FAA can implement the measures, it will direct pilots to these headings and traffic patterns | 191, 192, 211, and Table 12.2
Land Use Measures
| As a result of the FAA actions on the air traffic procedural recommendations, above, the FAA considers the forecast 2006 NEM to be “2006 with Existing Noise Compatibility Program”, for purposes of application of the following Land Use Elements. As the FAA announces its actions on the NCP Update in the Federal Register, it is issuing a revised determination that this forecast NEM will replace the “2006 Noise Exposure Map with Recommended Noise Compatibility Program” that was determined in compliance with part 150 by FAA on December 31, 2001 Measures 1 through 4, and 9 through 11, replace measures that were approved by the FAA in 1991 for that NCP at Boca Raton Airport. The other Land Use measures are new recommendations in this part 150 Update
1. Zoning | The City and County will continue to update and adopt a revised Airport Zoning and Land Use Ordinance consistent with the updated NEM's. FAA Action: Approved as a continuing measure. The recommendation, included in the 1991 Noise Compatibility Program, has been partially implemented by the affected land use jurisdictions | 195, 196, 211, and Table 12.1.
2. Building code revision | The Boca Raton Airport Authority will continue to work with local jurisdictions to include specifications for the use of noise insulating materials in construction within/adjacent to approved NEM's. FAA Action: Approved as a continuing measure | 196, 211, and Tables 12.1.
3. Local environmental review | The City and County implemented an environmental review through their respective airport zoning and land use regulations that they adopted in accordance with Chapter 333 of the Florida Statutes (Article 18 of the County Land Development Code and City Ordinance 3274). Both the County and City Planning Departments notify The Boca Raton Airport Authority of potential developments and request comment. It is necessary to carry the measure forward to this recommended NCP to ensure its continued implementation. FAA Action: Approved as a continuing measure | 197, 211 and Tables 12.1.
4. Comprehensive Planning | The comprehensive plans for the City of Boca Raton and Palm Beach County would be revised to fully address the issues of aircraft noise on existing and proposed land use. The State Statutes require that the plans be evaluated and updated every five years. FAA Action: Approved as a continuing measure | 196 and 211, and Tables 12.1.
5. Real Estate Disclosure | This measure will require disclosure of aircraft noise levels and their meaning to purchasers or renters prior to the time of the contract or title transfer for residential property. Disclosure will involve a form to be signed by the prospective buyer or renter similar to what is required by truth-in-sales laws. This will ensure that new residents are aware of the noise environment prior to purchase or rental of properties within the noise zones. FAA Action: Approved | 200, and 211, and Tables 12.1.
6. Easement Acquisition | This measure is to purchase avigation easements from noise-sensitive property owners within the 60 DNL noise contour for “2006 with the recommended NCP”. This measure would allow the acquisition of easements over developed property as well as undeveloped property. Only existing private homes and public use (schools) within the DNL 60 dB contour are assumed to be included. Property owners refusing participation in the sound insulation program may be eligible for easements. FAA Action: Approved to the extent the properties are located within the official NEM's, specifically “2001 NEM with Existing Noise Compatibility Program”. The specific identification of the structures recommended for inclusion in the program will be required prior to approval for federal funding | 201 and 211, Exhibits 8.1, and Tables 12.1.
7. Sound Insulation | This measure is to provide the opportunity for sound insulation of noise-sensitive structures within the 65 DNL contour, for “2006 with the recommended NCP.” Avigation easements are typically obtained in return for property owner participation. Only existing private homes and public uses within the 2006 65 dB DNL contour are assumed to be included. Property owners refusing sound insulation may be eligible for easements and vice-versa. FAA Action: Approved to the extent the properties are located within the DNL 65 dB noise contour of the official NEM's, specifically “2001 NEM with Existing Noise Compatibility Program”. The specific identification of the structures recommended for inclusion in the program will be required prior to approval for federal funding | 201, and 211, Exhibits 8.1, and Tables 12.1.
8. Noise and Operations Monitoring System | This measure is to include provisions for the Boca Raton Airport Authority to acquire capabilities to monitor operations, noise, and complaints, in an integrated system. This system will include purchase of equipment to monitor, record, analyze, and report on actual flight track geometry and runway utilization. This measure also includes six to eight permanent noise monitors and one portable noise monitor that will allow improved communication with the community when addressing aircraft operations. This system will also include the capabilities to identify complainants' addresses, correlate complaints with operations and noise data and develop a database. FAA Action: Approved to the extent that the requested equipment is allowed to interface with FAA equipment and operations. Eligibility for Federal funding will be determined at the time of application | 205, and 211, and Tables 12.1.
9. Noise Abatement Advisory Committee | This measure is to continue the ongoing Noise Abatement Committee to discuss noise abatement issues with the public and interested parties. FAA Action: Approved | 207, and 212, and Tables 12.1.
10. Noise Office Staff | This measure is to continue to employ a full-time noise and community affairs staff person. FAA Action: Approved | 207, and 212, and Tables 12.1.
11. Program Publicity | This measure is to continue to publicize the approved program. (The measure replaces Measure 7, “Install on-airfield noise abatement signage”, page 5-21, of the 1991 Noise Compatibility Program). Once the FAA has approved the revised NCP, and the BRAA should take steps to publicize the program, including: revisions to on-airfield signs, posters for pilot lounges or flight planning areas, pilot handouts, such as flight manual inserts and web site upgrades, that summarize the preferred procedures. FAA Action: Approved in part, disapproved in part. The methods to publicize this revised noise compatibility program are approved. Specific language to be included is disapproved herein. Prior to release, each publicity measure must be approved for wording and content by the appropriate FAA office, and should clearly state that the noise abatement measures are voluntary, and that pilots, while encouraged to request the noise abatement departure heading, are always required to follow the directions provided by air traffic control | 207 and 212, and Tables 12.1; FAA letter dated March 29, 2002.

These determinations are set forth in detail in a Record of Approval endorsed by the Administrator on June 28, 2002. The Record of Approval, as well as other evaluation materials and the documents comprising the submittal, are available for review at the FAA office listed above and at the administrative office of the Boca Raton Airport Authority.

Issued in Orlando, Florida on July 12, 2002.
W. Dean Stringer,
Manager, Orlando Airports District Office.

[FR Doc. 02-18339 Filed 7-19-02; 8:45 am]

BILLING CODE 4910-13-M